DEPARTMENT OF TRANSPORTATION

Federal Aviation Administration

Notice of Intent To Rule on Request To Release Airport Property at the Deer Park Municipal Airport, Deer Park, WA

ACTION: Notice of request to release airport property.

SUMMARY: The FAA proposes to rule and invite public comment on the release of land at Deer Park Municipal Airport under the provisions of Section 125 of the Wendell H. Ford Aviation Investment Reform Act for the 21st Century (AIR 21), now 49 USC § 47107(h).

DATES: Comments must be received on or before November 29, 2004.

ADDRESSES: Comments on this application may be mailed or delivered to the FAA at the following address: Mr. J. Wade Bryant, Manager, Federal Aviation Administration, Northwest Mountain Region, Airports Division, Seattle Airports District Office, 1601 Lind Avenue, SW., Suite 250, Renton, Washington 98055-4056.

In addition, one copy of any comments submitted to the FAA must be mailed or delivered to Ms. Penni Loomis, Airport Manager, City of Deer Park, P.O. Box F, Deer Park, Washington 99006.

FOR FURTHER INFORMATION CONTACT: Ms. Karen Miles, Project Manager, Federal Aviation Administration, Northwest Mountain Region, Airports Division, Seattle Airports District Office, 1601 Lind Avenue, SW., Suite 250, Renton, Washington 98055-4056.

The request to release property may be reviewed in person at this same location, by appointment.

SUPPLEMENTARY INFORMATION: The FAA invites public comment on the request to release property at the Deer Park Municipal Airport under the provisions of 49 USC 47107(h).

On October 21, 2004, the FAA determined that the request to release property at Deer Park Municipal Airport submitted by the City of Deer Park met the procedural requirements of the Federal Aviation Airport Compliance Requirements Order 5190.6A. The FAA may approve the request, in whole or in part, no later than November 29, 2004.

The following is a brief overview of the request:

The Deer Park Municipal Airport requests the release of non-aeronautical airport property consisting of approximately 5 acres on the east side of the airport to a private developer. The purpose of this release is to trade unimproved airport land to a private developer for use as a residential emergency egress, for 8.88 acres of improved light industrial property adjacent to the west side of the airport. The airport property proposed for release has not been used for aviation purposes and no aeronautical use of the property is planned or anticipated. The City of Deer Park has determined that the property requested is not within critical areas affecting safety of flight and that the proposed use of the property as a residential emergency egress would not interfere with airport operations. The property to be acquired by the Airport in trade would benefit the airport for future revenue producing development. The airport would realize a net gain of property.

Any person may inspect the request in person at the FAA office listed above under FOR FURTHER INFORMATION CONTACT.

In addition, any person may, upon request, inspect the application, notice and other documents germane to the application in person at the Deer Park Municipal Airport, 712 North Cedar Road, Deer Park, Washington, 99006.

Issued in Renton, Washington on October 21, 2004.
J. Wade Bryant,
Manager, Seattle Airports District Office.

[FR Doc. 04-24268 Filed 10-28-04; 8:45 am]

BILLING CODE 4910-13-M